DEPARTMENT OF ENERGY

Federal Energy Regulatory Commission

[Docket No. PF07-12-000]

Dominion Transmission, Inc.; Notice of Intent to Prepare an Environmental Assessment for the Proposed Storage Factory Project, Request for Comments on Environmental Issues, and Notice of Public Scoping Meetings and Site Visit

August 29, 2007.

The staff of the Federal Energy Regulatory Commission (FERC or Commission) will prepare an environmental assessment (EA) that will discuss the environmental impacts of the Storage Factory Project, involving construction and operation of facilities by Dominion Transmission, Inc. (Dominion) in Clinton, Elk, and Tioga Counties, Pennsylvania. The EA will be used by the Commission in its decision-making process to determine whether the project is in the public convenience and necessity.

This notice announces the opening of the scoping period that will be used to gather environmental input from the public and interested agencies on the project. Your input will help the Commission staff determine which issues need to be evaluated in the EA. Please note that the scoping period will close on September 28, 2007.

Comments may be submitted in written or verbal form. Further details on how to submit written comments are provided in the Public Participation section of this notice. In lieu of sending written comments, you may choose to attend the public scoping meeting scheduled as follows:

Date and time | Location
Tuesday, September 18, 2007 7 p.m. to 9 p.m. (EDT) | Lawrenceville Fire Department, 9-11 Mechanic St., Lawrenceville, PA 16901. Telephone: (570) 827-2047.

This notice is being sent to affected landowners; federal, state, and local government representatives and agencies; environmental and public interest groups; Native American tribes; other interested parties in this proceeding; and local libraries and newspapers. We ¹ encourage government representatives to notify their constituents of this planned project and encourage them to comment on their areas of concern.

¹ “We,” “us,” and “our ” refer to the environmental staff of the Office of Energy Projects (OEP), part of the Commission staff.

If you are a landowner receiving this notice, you may be contacted by a Dominion representative about the acquisition of an easement to construct, operate, and maintain the proposed project facilities. The pipeline company would seek to negotiate a mutually acceptable agreement. However, if the project is approved by the Commission, that approval conveys with it the right of eminent domain. Therefore, if easement negotiations fail to produce an agreement, Dominion could initiate condemnation proceedings in accordance with state law.

A fact sheet prepared by the FERC entitled “An Interstate Natural Gas Facility on My Land? What Do I Need to Know?” addresses a number of typically asked questions, including the use of eminent domain and how to participate in the Commission's proceedings. It is available for viewing on the FERC Internet Web site (http://www.ferc.gov).

Summary of the Proposed Project

The Storage Factory Project would involve the leaching of two salt caverns and placing the first cavern in service by 2014. The project consists of constructing leaching/pumping facilities, a brine processing facility, water and brine pipelines, and a new compressor station for gas storage injection/withdrawal purposes in Tioga County.

Dominion is also proposing on-system enhancements to other existing facilities in Pennsylvania, including piping upgrades to the Sabinsville Storage Pool. Proposed modifications to transmission related facilities include additional compression at Dominion's existing Ardell Station (approximately 4,000 horsepower located in Elk County, Pennsylvania) and approximately 7.5 miles of new 30-inch-diameter pipeline looping in Clinton County.

The Storage Factory Project is in the preliminary design state. Dominion anticipates filing an application with the FERC in March 2008 and to seek the Commission's approval in time for Dominion to begin construction by March 2009, with a proposed in-service date of January 2014.

Project location maps are included in Appendix A.²

² The appendices referenced in this notice are not being printed in the Federal Register. Copies of all appendices, other than Appendix A (maps), are available on the Commission's Web site at the “eLibrary” link or from the Commission's Public Reference Room, 888 First Street, NE., Washington, DC 20426, or call (202) 502-8371. For instructions on connecting to eLibrary refer to the “Additional Information” section of this notice. Copies of the appendices were sent to all those receiving this notice in the mail. Requests for detailed maps of the proposed facilities should be made directly to Dominion.

Land Requirements for Construction

The Storage Factory Project is in the preliminary planning stage. The precise facility design, pipeline route, rights-of-way, and other details have not yet been finalized. Specific information on the proposed project location and the land used by it will be made available to the public when it is finalized.

Construction of the proposed project would affect a total of about 250.7 acres during construction. Following construction, about 160 acres would be allowed to revert to its previous conditions. Disturbance associated with aboveground facilities would permanently impact 51.2 acres of land.

Dominion proposes to construct its pipeline in Clinton County and the pipelines associated with the Sabinsville Storage Pool in existing rights-of-way. Dominion has indicated that it would seek 100-foot-wide construction right-of-way for the pipelines associated with the leaching and gas storage areas.

The EA Process

For this project, the FERC staff has initiated its National Environmental Policy Act (NEPA) review prior to receiving the application. The purpose of the Commission's Pre-Filing Process is to involve interested stakeholders early in project planning and to identify and resolve issues before an application is filed with the FERC. A docket number (PF07-12-000) has been established to place information filed by Dominion, and related documents issued by the Commission, into the public record. Once a formal application is filed with the FERC, a new docket number will be established. The FERC will be the lead federal agency for the preparation of the EA which will satisfy the requirements of NEPA.

The NEPA requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, we are requesting public comments on the scope of the issues that should be addressed in the EA. We will consider all comments received during scoping in the preparation of the EA.

Our independent analysis and evaluation of the issues will be included in the EA. The EA will also include possible alternatives to the proposed project or portions of the project, and we will make recommendations on how to lessen or avoid impacts on the various resource areas of concern. Depending on the comments received during the scoping process, the EA may be published and mailed to federal, state, and local agencies; elected officials; environmental and public interest groups; other interested parties; affected landowners; Native American tribes; libraries, and newspapers; and the Commission's official service list for this proceeding. A 30-day comment period will be allotted for review of the EA. We will consider all comments submitted on the EA in any Commission Order that is issued for the project.

We are currently involved in discussions with other jurisdictional agencies to identify their issues and concerns. These agencies include the U.S. Army Corps of Engineers, U.S. Fish and Wildlife Service, U.S. EPA Region III Groundwater and Enforcement Branch, Susquehanna River Basin Commission, and the Pennsylvania Department of Environmental Protection.

By this notice, we are asking these and other federal, state, and local agencies with jurisdiction and/or special expertise with respect to environmental issues to formally cooperate with us in the preparation of the EA. Agencies that would like to request cooperating status should follow the instructions for filing comments provided below.

Currently Identified Environmental Issues

The EA will discuss impacts that could occur as a result of the construction and operation of the proposed project. We have already identified several issues that we think deserve attention based on a preliminary review of the project site and the facility information provided by Iroquois. This preliminary list of issues and potential impacts may change based on your comments and our analysis.

• Impacts on perennial and intermittent streams and waterbodies.

• Water withdrawals from Cowanesque Reservoir or other water source.

• Evaluation of temporary and permanent impacts on wetlands and development of appropriate mitigation.

• Effect on federally and state-listed species.

• Impacts on existing land uses.

• Visual effects of the aboveground facilities on surrounding areas.

• Impacts on local air and noise quality associated with construction and operation.

• Public safety and potential hazards associated with the transport of natural gas and the proposed compressor facilities.

Public Participation

You can make a difference by providing us with your specific comments or concerns about the project. By becoming a commenter, your concerns will be addressed in the EA and considered by the Commission. Your comments should focus on the potential environmental effects of the proposal, reasonable alternatives to the proposal (including alternative locations and routes), and measures to avoid or lessen environmental impact. The more specific your comments, the more useful they will be. Please carefully follow these instructions to ensure that your comments are received in time and properly recorded:

• Send an original and two copies of your letter to: Kimberly D. Bose, Secretary, Federal Energy Regulatory Commission, 888 First Street, NE., Room 1A, Washington, DC 20426.

• Label one copy of the comments for the attention of Gas Branch 1;

• Reference Docket No. PF07-12-000;

• Mail your comments so that they will be received in Washington, DC on or before September 28, 2007.

Please note that the Commission strongly encourages electronic filing of comments. See 18 Code of Federal Regulations (CFR) 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

The public scoping meeting (date, time, and location is listed above) is designed to provide state and local agencies, interested groups, affected landowners, and the general public with another opportunity to offer your comments on the project. Interested groups and individuals are encouraged to attend the meetings and to present comments on the environmental issues they believe should be addressed in the EA. A transcript of each meeting will be made so that your comments will be accurately recorded.

All public meetings will be posted on the Commission's calendar located at http://www.ferc.gov/EventCalendar/EventsList.aspx along with other related information.

Once Dominion formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Site Visit

On September 18, 2007, the OEP staff will conduct a pre-certification site visit of the proposed Storage Factory Project. We will view Dominion's proposed pipeline route, route variations, and aboveground facilities that are being considered for the proposed project. Staff will tour the proposed project area by automobile and on foot. Representatives of Dominion will accompany the OEP staff.

All interested parties may attend the site visit. Those planning to attend must provide their own transportation. If you are interested in attending the site visit, please meet us at 1 p.m. in the parking lot of the Lawrenceville Fire Department at 9-11 Mechanic St., Lawrenceville, PA 16901.

For additional information, please contact the Commission's Office of External Affairs at 1-866-208-FERC (3372).

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. If you do not return the attached form (Appendix B), you will be removed from the Commission's environmental mailing list. All individuals who provide written comments, attend the scoping meeting, or return the Information Request will remain on our environmental mailing list for this project.

Additional Information

Additional information about the project is available from the Commission's Office of External Affairs at 1-866-208 FERC (3372) or on the FERC Internet Web site (http://www.ferc.gov). Using the “eLibrary” link, select “General Search” from the eLibrary menu, enter the selected date range and “Docket Number” excluding the last three digits (i.e., PF07-12), and follow the instructions. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, Dominion has established an Internet Web site for this project at http://www.dom.com/about/gas-transmission/storage/index.jsp. The Web site includes a project overview, status, and answers to frequently asked questions. You can also request additional information by calling Dominion at 1-880-882-5055.

Kimberly D. Bose,
Secretary.

[FR Doc. E7-17664 Filed 9-6-07; 8:45 am]

BILLING CODE 6717-01-P